DEPARTMENT OF COMMERCE

National Oceanic and Atmospheric Administration

50 CFR Part 648

[I.D. 011101A]

RIN 0648-AF87

Fisheries of the Northeastern United States; Tilefish Fishery Management Plan

AGENCY: National Marine Fisheries Service (NMFS), National Oceanic and Atmospheric Administration (NOAA), Commerce.

ACTION: Notice of availability of a fishery management plan; request for comments.

SUMMARY: NMFS announces that the Mid-Atlantic Fishery Management Council (Council) has submitted the Tilefish Fishery Management Plan (FMP) for Secretarial review and is requesting comments from the public. The FMP would initiate Federal management of golden tilefish (Lopholatilus chamaeleonticeps) (tilefish) under the Magnuson-Stevens Fishery Conservation and Management Act (Magnuson-Stevens Act). The overall goal of the FMP is to rebuild tilefish so that the optimum yield can be obtained from this resource.

DATES: Comments must be received not later than 5 p.m., Eastern Standard Time, on April 13, 2001.

ADDRESSES: Comments on the FMP should be sent to Patricia A. Kurkul, Regional Administrator, 1 Blackburn Drive, Gloucester, MA 01930-2298. Mark the outside of the envelope, “Comments on Tilefish FMP.” Comments may also be sent via facsimile (fax) to (978) 281-9135. Comments will not be accepted if submitted via e-mail or the Internet.

Copies of the FMP, its regulatory impact review, initial regulatory flexibility analysis, final environmental impact statement, and supporting documents are available from Daniel T. Furlong, Executive Director, Mid-Atlantic Fishery Management Council, Room 2115, Federal Building, Dover, DE 19904-6790.

FOR FURTHER INFORMATION CONTACT: Myles Raizin, Fishery Policy Analyst, (978) 281-9104, e-mail at M.A.Raizin@noaa.gov, fax at (978) 281-9135.

SUPPLEMENTARY INFORMATION: FMPs and amendments must meet the requirements of the Magnuson-Stevens Act as well as a number of other Federal laws and regulations. The FMP has been developed to meet all Federal requirements and contains all the required elements of an FMP. In particular, the FMP addresses the Magnuson-Stevens Act requirement that an FMP be developed for overfished species and that targets and thresholds for stock size and fishing mortality be established.

A recent NMFS stock assessment indicates that the tilefish stock north of North Carolina is at a low biomass level and is overexploited. Total tilefish biomass in 1998 was estimated to be 6.8 million lb (3.1 million kg), which is about 35 percent of the biomass (B) that would produce maximum sustainable yield (MSY) or BMSY. Biomass-based fishing mortality (F) was estimated to be 0.45, which is about double the F at MSY (FMSY) of 0.22. Total landings in 1998 were 2.7 million lb (1.2 million kg) and significantly below the estimated MSY of 4.2 million lb (1.9 million kg). Current fishing mortality rates are unsustainable, as indicated by a shift in the exploitation pattern towards smaller fish.

The management unit for the FMP is defined as all golden tilefish under United States jurisdiction in the Atlantic Ocean north of the Virginia/North Carolina border. Tilefish south of the Virginia/North Carolina border are currently managed as part of the Fishery Management Plan for the Snapper-Grouper Fishery prepared by the South Atlantic Fishery Management Council. The fishing year for tilefish would be the 12-month period beginning with the implementation date of the FMP.

To meet the overall goal of the FMP, the Council adopted the following objectives: (1) Prevent overfishing and rebuild the resource to the biomass that would support MSY; (2) prevent overcapitalization and limit new entrants; (3) identify and describe essential fish habitat; and (4) collect necessary data to develop, monitor, and assess biological, economic, and social impacts of management measures designed to prevent overfishing and to reduce bycatch in all fisheries.

The FMP would establish: (1) An overfishing definition; (2) a 10-year rebuilding schedule; (3) permit and reporting requirements for commercial vessels, operators, and dealers; (4) an FMP Monitoring Committee; (5) a framework adjustment process; (6) a commercial quota to be divided into full-time, part-time, and incidental categories; (7) a trip limit for the incidental category (non-longline); (8) a limited entry scheme for the full-time and part-time quota categories; and (9) an identification and description of essential fish habitat (EFH) for tilefish.

Overfishing Definition

The Magnuson-Stevens Act requires each fishery management plan to specify objective and measurable status determination criteria for identifying when stocks or stock complexes are overfished. Status determination criteria for tilefish would specify a maximum fishing mortality rate (F) threshold and minimum stock size threshold. The maximum F threshold would be specified as FMSY, and the minimum biomass threshold would be specified as ½ BMSY. Guidelines for the Magnuson-Stevens Act National Standards suggest that a risk-averse fishing mortality rate target and a biomass target be specified. The Council adopted a target fishing mortality rate consistent with the recommended rebuilding schedule for tilefish. The FMP specifies a target stock biomass equal to BMSY.

EFH Definition

The Magnuson-Stevens Act requires fishery management plans to identify EFH and to address habitat issues such as description of non-fishing and fishing threats. EFH designations for tilefish under the FMP would be reviewed and, if needed, updated at least every 5 years. The FMP provides the authority to implement new or amended measures through a framework process.

Permits for Commercial Vessels, Operators, and Dealers

Vessel owners desiring to fish for tilefish within the EEZ with the intent to sell, transport, or deliver for sale, any tilefish taken from the EEZ, would be required to obtain a Federal commercial vessel permit. Any individual who operates a vessel for the purpose of fishing commercially for tilefish would be required to obtain an operator’s permit. Any vessel fishing commercially for tilefish would be required to have on board at least one operator who holds an operator’s permit. Any dealer of tilefish would be required to have a permit.

Reporting Requirements for Commercial Vessels, Operators and Dealers

Federal commercial permit holders would be required to submit completed logbooks within 15 days of the end of the reporting month in order to monitor the fishery. Dealers with permits issued pursuant to the FMP would be required to submit weekly landings reports. Dealers would also be required to use the NMFS interactive voice response reporting system. Dealers would be required to report all purchases of tilefish, regardless of whether a vessel possesses a valid commercial permit issued by NMFS. Buyers who do not purchase directly from vessels would not be required to submit reports under this provision. The processing sector would be required to submit the Processed Product Report, as is required in all Northeast FMPs.

Tilefish Monitoring Committee (Monitoring Committee)

The Monitoring Committee would be a joint committee made up of staff representatives of the Council, the NMFS Northeast Regional Office, the NMFS Northeast Fisheries Science Center, state representatives, and an industry member. The Monitoring Committee would annually review the best available data and make recommendations to the Council through its Tilefish Committee regarding annual specifications and management measures consistent with the rebuilding schedule for the tilefish fishery.

Framework Adjustment Process

In addition to the annual specification setting procedure, the Council could add or modify management measures through a framework adjustment process. This adjustment procedure would allow the Council to add or modify management measures through an expedited process while allowing opportunities for public review.

Commercial Quota

Landings for each of the next 10 fishing years would be set at 1.995 million lb (905,172 kg). The quota would be divided among three categories: Incidental, part-time, and full-time. The full-time category would in turn be divided into two tiers. Placement of a vessel into a full-time or part-time category is based on qualifying criteria that reflect historical and present participation in the fishery. The incidental permit, which is open access, would allow vessels to retain up to 300 lb (138 kg) of tilefish per trip. The “target” estimate of landings for the incidental category (5 percent of the total allowable landings (TAL)) would first be subtracted from the TAL and then the remainder of the TAL would be divided among the full-time tier 1 category, which would receive 66 percent; the full-time tier 2 category, which would receive 15 percent; and the part-time category, which would receive 19 percent.

Stock Rebuilding Schedule

The rebuilding schedule in the FMP would have a 50-percent probability of rebuilding the tilefish stock to Bmsy in 10 years. The rebuilding schedule would reduce F from the 1998 level of 0.45, to 0.31 in the first year of the FMP. The rebuilding plan would allow for a constant harvest of 1.995 million lb (905,172 kg) per year for 10 years, beginning in 2001.

Public Comments

Public comments are being solicited on the FMP through the end of the comment period (see DATES). A proposed rule that would implement the FMP may be published in the Federal Register for public comment following NMFS’ evaluation under Magnuson-Stevens Act procedures. Public comments on the proposed rule must be received by the end of the comment period on the FMP in order to be considered in the approval/disapproval decision on the FMP. All comments received by the end of the comment period on the FMP, whether specifically directed to the FMP or the proposed rule to implement the FMP, will be considered the approval/disapproval decision on the FMP. All comments received on the FMP or on the proposed rule will be responded to in the preamble to the final rule.

Authority: 16 U.S.C. 1801 et seq.

Dated: February 6, 2001.
Bruce C. Morehead,
Acting Director, Office of Sustainable Fisheries, National Marine Fisheries Service.

[FR Doc. 01-3546 Filed 2-9-01; 8:45 am]

BILLING CODE 3510-22-S